DEPARTMENT OF COMMERCE

Foreign-Trade Zones Board

[Order No. 2023]

Approval of Expansion of Subzone 124D; LOOP LLC; Lafourche and St. James Parishes, Louisiana

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Port of South Louisiana, grantee of Foreign-Trade Zone 124, has made application to the Board to expand Subzone 124D-Site 1 on behalf of LOOP LLC to include an additional parcel in Cut Off, Louisiana (FTZ Docket B-54-2016, docketed August 16, 2016);

Whereas, notice inviting public comment has been given in the Federal Register (81 FR 56582, August 22, 2016) and the application has been processed pursuant to the FTZ Act and the Board's regulations; and,

Whereas, the Board adopts the findings and recommendations of the examiner's memorandum, and finds that the requirements of the FTZ Act and the Board's regulations are satisfied;

Now, therefore, the Board hereby approves the expansion of Subzone 124D on behalf of LOOP LLC, as described in the application and Federal Register notice, subject to the FTZ Act and the Board's regulations, including Section 400.13.

Dated: November 29, 2016.
Paul Piquado,
Assistant Secretary of Commerce for Enforcement and Compliance Alternate Chairman Foreign-Trade Zones Board.

[FR Doc. 2016-29344 Filed 12-6-16; 8:45 am]

BILLING CODE 3510-DS-P